SMALL BUSINESS ADMINISTRATION

[C3 Capital Partners III, L.P.; License No. 07/07-0118]

Notice Seeking Exemption Under Section 312 of the Small Business Investment Act, Conflicts of Interest

Notice is hereby given that C3 Capital Partners III, L.P., 1511 Baltimore Avenue, Suite 500, Kansas City, MO 64108, a Federal Licensee under the Small Business Investment Act of 1958, as amended (“the Act”), in connection with the financing of a small concern, has sought an exemption under Section 312 of the Act and Section 107.730, Financings which constitute Conflicts of Interest of the Small Business Administration (“SBA”) Rules and Regulations (13 CFR 107). Midwest Mezzanine Fund V SBIC, L.P., proposes providing subordinated debt and private equity financing to Drive Source International, 7900 Durand Avenue, Sturtevant, WI 53177. The financing by C3 Capital Partners III, L.P. will discharge obligations held by C3 Capital Partners II, L.P., LLC.

This financing is brought within the purview of § 107.730 of the Regulations because C3 Capital Partners III, L.P. and C3 Capital Partners II, L.P. are Associates and C3 Capital Partners II, L.P., holds over five percent of the equity in DSI, therefore this transaction requires prior SBA exemption.

Notice is hereby given that any interested person may submit written comments on the transaction, within fifteen days of the date of this publication, to the Associate Administrator for Investment and Innovation, U.S. Small Business Administration, 409 Third Street SW., Washington, DC 20416.

Mark Walsh,
Associate Administrator for Office of Investment and Innovation.

[FR Doc. 2016-02872 Filed 2-11-16; 8:45 am]

BILLING CODE P